DEPARTMENT OF COMMERCE

International Trade Administration

[A-570-934]

1-Hydroxyethylidene-1, 1-Diphosphonic Acid From the People's Republic of China: Final Results of Antidumping Duty Administrative Review and Final Rescission in Part

AGENCY: Import Administration, International Trade Administration, Department of Commerce.

SUMMARY: On April 7, 2011, the Department of Commerce (the “Department”) published in the Federal Register its preliminary results of the administrative review of the antidumping duty order on 1-hydroxyethylidene-1, 1-diphosphonic acid (“HEDP”) from the People's Republic of China (“PRC”), covering the period April 23, 2009 through March 31, 2010.¹ The Department gave interested parties an opportunity to comment on the Preliminary Results. After reviewing the interested parties' comments, the Department has not made changes to the margin for the final results. The final dumping margin for this review is listed in the “Final Results of Review” section below.

¹ See 1-Hydroxyethylidene-1, 1-Diphosphonic Acid From the People's Republic of China: Preliminary Results of Antidumping Duty Administrative Review and Intent To Rescind Review in Part, 76 FR 19325 (April 7, 2011) (“Preliminary Results”).

DATES: Effective Date: August 8, 2011.

FOR FURTHER INFORMATION CONTACT: Shawn Higgins, AD/CVD Operations, Office 4, Import Administration, International Trade Administration, U.S. Department of Commerce, 14th Street and Constitution Avenue, NW., Washington, DC 20230; telephone: (202) 482-0679.

SUPPLEMENTARY INFORMATION:

Background

Compass Chemical LLC (“Petitioner”) and Jiangsu Jianghai Chemical Group Co., Ltd. (“Jiangsu Jianghai”) submitted case briefs on May 9, 2011 ² and rebuttal briefs on May 16, 2011.³ On July 1, 2011, the Department placed additional information on the record.⁴ Jiangsu Jianghai submitted comments on this information on July 15, 2011.

² See Letter from Petitioner to the Secretary of Commerce, “1-Hydroxyethylidene-1, 1-Diphosphonic Acid from the People's Republic of China” (May 9, 2011); Letter from Jiangsu Jianghai to the Secretary of Commerce, “1-Hydroxyethylidene-1, 1-Diphosphonic Acid from the People's Republic of China; A-570-934” (May 9, 2011).

³ See Letter from Petitioner to the Secretary of Commerce, “1-Hydroxyethylidene-1, 1-Diphosphonic Acid from the People's Republic of China” (May 16, 2011); Letter from Jiangsu Jianghai to the Secretary of Commerce, “1-Hydroxyethylidene-1, 1-Diphosphonic Acid from the People's Republic of China; A-570-934” (May 16, 2011).

⁴ See Memorandum from Shawn Higgins, International Trade Compliance Analyst, AD/CVD Operations, Office 4, to Interested Parties, “Administrative Review of the Antidumping Duty Order on 1-Hydroxyethylidene-1, 1-Diphosphonic Acid from the People's Republic of China: Placing Additional Information on Record” (July 1, 2011).

Analysis of Comments Received

All issues raised by parties in their case and rebuttal briefs are addressed in the Memorandum from Christian Marsh, Deputy Assistant Secretary for Antidumping and Countervailing Duty Operations, to Ronald K. Lorentzen, Deputy Assistant Secretary for Import Administration, “Issues and Decision Memorandum for the Final Results of the Antidumping Duty Administrative Review of 1-Hydroxyethylidene-1, 1-Diphosphonic Acid from the People's Republic of China” (August 2, 2011) (“Issues and Decision Memorandum”), which is hereby adopted by this notice. A list of the issues addressed in the Issues and Decision Memorandum is attached to this notice as an appendix. The Issues and Decision Memorandum is a public document and is on file in the Central Records Unit, Main Commerce Building, Room 7046, and is accessible on the Web at http://ia.ita.doc.gov/frn. The paper copy and electronic version of the memorandum are identical in content.

Changes Since the Preliminary Results

Based on an analysis of the comments received and other information on record of this review, the Department has modified its corroboration analysis since the Preliminary Results. Specifically, the Department has supplemented its corroboration analysis from the Preliminary Results by using a surrogate value for phosphorus trichloride on the record of this review to corroborate both the surrogate value for phosphorus trichloride used in the petition and the petition's normal value.⁵

⁵ See infra Corroboration section; Issues and Decision Memorandum at Issue 4.

Scope of the Order

The merchandise subject to the order includes all grades of aqueous, acidic (non-neutralized) concentrations of 1-hydroxyethylidene-1, 1-diphosphonic acid,⁶ also referred to as hydroxethlylidenediphosphonic acid, hydroxyethanediphosphonic acid, acetodiphosphonic acid, and etidronic acid. The CAS (Chemical Abstract Service) registry number for HEDP is 2809-21-4. The merchandise subject to the order is currently classified in the Harmonized Tariff Schedule of the United States (“HTSUS”) at subheading 2931.00.9043. It may also enter under HTSUS subheading 2811.19.6090. While HTSUS subheadings are provided for convenience and customs purposes only, the written description of the scope of the order is dispositive.

⁶ C2H8O7P2 or C(CH3)(OH)(PO3H2)2.

Final Partial Rescission of the Administrative Review

In the Preliminary Results, the Department stated that it intended to rescind this administrative review with respect to Changzhou Wujin Fine Chemical Factory Co., Ltd. (“Wujin Fine”) in accordance with 19 CFR 351.213(d)(3). No parties commented on the Department's intent to rescind. Because there is no information or argument on the record of this review that warrants reconsideration of the Department's intent to rescind, the Department is rescinding this administrative review with respect to Wujin Fine.

Separate Rates

In the Preliminary Results, the Department determined that Jiangsu Jianghai does not qualify for a separate rate in this review and should be treated as part of the PRC-wide entity because it has failed to demonstrate an absence of de jure and de facto government control and did not fully participate in this administrative review. Parties commented on the Department's decision to deny Jiangsu Jianghai a separate rate. For the final results, the Department has analyzed these comments and continues to find that Jiangsu Jianghai has not qualified for a separate rate in this review and, therefore, will be treated as part of the PRC-wide entity.⁷

⁷ See Issues and Decision Memorandum at Issue 2.

Use of Facts Available and Adverse Facts Available (“AFA”)

In the Preliminary Results, the Department preliminarily determined to use an inference that is adverse to the interests of the PRC-wide entity in selecting from among the facts otherwise available and assigned the PRC-wide entity an AFA rate of 72.42 percent, which was the margin calculated in the petition, as adjusted by the Department for initiation. Parties commented both on the Department's decision to apply AFA and the Department's choice of the AFA rate assigned to the PRC-wide entity. For the final results, the Department has analyzed these comments and continues to find that it is appropriate to assign an AFA rate of 72.42 percent to the PRC-wide entity.⁸

⁸ See Issues and Decision Memorandum at Issues 3-4.

Corroboration of Secondary Information

In the Preliminary Results, the Department preliminarily determined that the 72.42 percent petition rate has probative value and, therefore, is corroborated to the extent practicable, in accordance with section 776(c) of the Act. Parties commented on the Department's corroboration of the 72.42 percent petition rate. For the final results, the Department has analyzed these comments and continues to find that the 72.42 percent petition rate is corroborated to the extent practicable.⁹

⁹ See Issues and Decision Memorandum at Issue 4.

Final Results of Review

The Department has determined that the following weighted-average dumping margins exist for the period April 23, 2009, through March 31, 2010:

Exporter | Antidumping duty percent margin
PRC-Wide Entity ¹⁰ | 72.42

Assessment Rates

¹⁰ Jiangsu Jianghai is part of the PRC-wide entity.

Pursuant to 19 CFR 351.212, the Department will determine, and Customs and Border Protection (“CBP”) shall assess, antidumping duties on all appropriate entries of subject merchandise in accordance with the final results of this review. The Department intends to instruct CBP to liquidate entries containing subject merchandise exported by the PRC-wide entity at the PRC-wide rate the Department determines in the final results of this review. The Department intends to issue appropriate assessment instructions directly to CBP 15 days after publication of the final results of this review.

Cash Deposit Requirements

The following cash deposit requirements will be effective upon publication of the final results of this administrative review for all shipments of the subject merchandise from the PRC entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate established in the final results of this review (i.e., 72.42 percent); and (3) for all non-PRC exporters of subject merchandise which have not received their own rate, the cash deposit rate will be the rate applicable to the PRC exporters that supplied that non-PRC exporter. These deposit requirements, when imposed, shall remain in effect until further notice.

Notification to Importers

This notice also serves as a preliminary reminder to importers of their responsibility under 19 CFR 351.402(f) to file a certificate regarding the reimbursement of antidumping duties prior to liquidation of the relevant entries during this review period. Failure to comply with this requirement could result in the Secretary presuming that reimbursement of antidumping duties occurred and, subsequently, the assessment of double antidumping duties.

The Department is issuing and publishing these final results of administrative review in accordance with sections 751(a)(1) and 777(i)(1) of the Act and 19 CFR 351.221(b)(5).

Dated: August 2, 2011.
Ronald K. Lorentzen,
Deputy Assistant Secretary for Import Administration.

Appendix

Issue 1: Whether the Department erred in initiating this administrative review of Jiangsu Jianghai

Issue 2: Whether Jiangsu Jianghai should be considered part of the PRC-wide entity

Issue 3: Whether Jiangsu Jianghai should receive a rate based on AFA

Issue 4: Whether the Department should continue to assign the 72.42 percent petition rate to the PRC-wide entity as the AFA rate

[FR Doc. 2011-20040 Filed 8-5-11; 8:45 am]

BILLING CODE 3510-DS-P